NUCLEAR REGULATORY COMMISSION

[Docket Nos. 50-247 and 50-286; NRC-2008-0672]

Entergy Nuclear Operations, Inc.: Indian Point Nuclear Generating Unit Nos. 2 and 3

AGENCY: Nuclear Regulatory Commission.

ACTION: License renewal and record of decision; issuance.

SUMMARY: The U.S. Nuclear Regulatory Commission (NRC) has issued renewed Facility Operating License Nos. DPR-26 and DPR-64 to Entergy Nuclear Operations, Inc. (Entergy or licensee), for Indian Point Nuclear Generating Unit Nos. 2 (IP2) and 3 (IP3). Renewed Facility Operating License Nos. DPR-26 and DPR-64 authorize Entergy to operate IP2 and IP3 at reactor core power levels not in excess of 3,216 megawatts thermal for each unit, in accordance with the provisions of the IP2 and IP3 renewed licenses and technical specifications. In addition, the NRC has prepared a Record of Decision (ROD) that supports the NRC's decision to issue renewed Facility Operating License Nos. DPR-26 and DPR-64.

DATES: The NRC issued the Renewed Facility Operating License Nos. DPR-26 and DPR-64 on September 17, 2018.

ADDRESSES: Please refer to Docket ID NRC-2008-0672 when contacting the NRC about the availability of information regarding this document. You may obtain publicly available information related to this document using any of the following methods:

• Federal Rulemaking Website: Go to http://www.regulations.gov and search for Docket ID NRC-2008-0672. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, MD 20852.

FOR FURTHER INFORMATION CONTACT: William Burton, Office of Nuclear Reactor Regulation, U.S. Nuclear Regulatory Commission, Washington DC 20555-0001; telephone: 301-415-6332, email: William.Burton@nrc.gov.

SUPPLEMENTARY INFORMATION:

I. Introduction

Notice is hereby given that the NRC has issued Renewed Facility Operating License Nos. DPR-26 and DPR-64 to Entergy Nuclear Operations, Inc. (Entergy or licensee), for the Indian Point Nuclear Generating Unit Nos. 2 (IP2) and 3 (IP3). IP2 and IP3 are pressurized-water reactors located in Buchanan, NY (24 miles north of New York City, NY). Renewed Facility Operating License Nos. DPR-26 and DPR-64 authorize the licensee to operate IP2 and IP3 at reactor core power levels not in excess of 3,216 megawatts thermal for each unit, in accordance with the provisions of the IP2 and IP3 renewed licenses and technical specifications. The renewed licenses authorize operation of IP2 and IP3 until April 30, 2024 and April 30, 2025, respectively. The NRC's record of decision (ROD) that supports the NRC's decision to issue Renewed Facility Operating License Nos. DPR-26 and DPR-64 is available in ADAMS under Accession No. ML18212A032.

The NRC has concluded that the application for the renewed licenses, “Indian Point Energy Center License Renewal Application,” dated April 23, 2007 (ADAMS Accession No. ML071210512), as amended, complies with the standards and requirements of the Atomic Energy Act of 1954, as amended (the Act), and the NRC's regulations. As required by the Act and the NRC's regulations set forth in title 10 of the Code of Federal Regulations (10 CFR), the NRC has made appropriate findings, which are set forth in the renewed licenses. No adjudicatory matters are pending before the Commission or the Atomic Safety and Licensing Board regarding the IP2 and IP3 license renewal application.

The NRC staff published its final supplemental environmental impact statement (FSEIS) in five volumes of NUREG-1437, Supplement 38, “Generic Environmental Impact Statement for License Renewal of Nuclear Plants Regarding Indian Point Nuclear Generating Unit Nos. 2 and 3 (NUREG-1437, Supplement 38) Final Report.” For Volumes 1 through 3, dated December 3, 2010, see ADAMS Package Accession No. ML103270072; for Volume 4, dated June 30, 2013 (FSEIS Supplement 1), see ADAMS Accession No. ML13162A616; and for Volume 5, dated April 30, 2018 (FSEIS Supplement 2), see ADAMS Accession No. ML18107A759. As discussed in the ROD, FSEIS, and FSEIS supplements, the NRC has considered the reasonably foreseeable impacts of IP2 and IP3 license renewal as well as a range of reasonable alternatives to license renewal that included natural gas combined-cycle (NGCC); purchased electric power; conservation; combination alternative 1 (license renewal of either IP2 or IP3 along with wind power, hydropower, biomass fuels, landfill-gas fuels, and conservation); combination alternative 2 (fossil-fired power (combined-cycle) with wind power, biomass fuels, hydropower, landfill-gas fuels, and conservation); the no-action alternative; and operation of IP2 and IP3 using cooling towers. The FSEIS and FSEIS supplements document the environmental review, including the determination that the adverse environmental impacts of license renewal for IP2 and IP3 are not so great that preserving the option of license renewal for energy planning decisionmakers would be unreasonable.

The NRC staff documented the results of its safety review in its “Safety Evaluation Report (SER) Related to the License Renewal of Indian Point Nuclear Generating Unit Nos. 2 and 3,” issued August 11, 2009 (ADAMS Accession No. ML092240268). On November 30, 2009, the NRC staff published its final report in two volumes as NUREG-1930, “Safety Evaluation Report Related to the License Renewal of Indian Point Nuclear Generating Unit Nos. 2 and 3” (for Volume 1, see ADAMS Accession No. ML093170451 and for Volume 2 see ADAMS Accession No. ML093170671). On August 31, 2011, the NRC staff issued Supplement 1 to NUREG-1930 (ADAMS Accession No. ML11242A215). Supplement 1 documents the NRC staff's review of supplemental information provided by the applicant since the issuance of NUREG-1930, including annual updates required by 10 CFR 54.21(b), and updated information and commitments in response to NRC staff requests for additional information. On July 31, 2015, the NRC staff issued Supplement 2 to NUREG-1930 (ADAMS Accession No. ML15188A383). Supplement 2 documents the NRC staff's review of supplemental information provided by the applicant since the issuance of Supplement 1, including information committed to by Entergy as documented in Commitment No. 30 (pertaining to reactor vessel internals), annual updates required by 10 CFR 54.21(b), updated information and commitments, as well as information provided in response to NRC staff requests for additional information. On August 1, 2018, the NRC staff issued Supplement 3 to NUREG-1930 (ADAMS Accession No. ML18200A333). Supplement 3 documents the NRC staff's review of supplemental information provided by the applicant since the issuance of Supplement 2, including annual updates required by 10 CFR 54.21(b), updated information to address new or updated interim staff guidance, and recent operating experience.

II. Conclusion

The NRC has determined that the application for the Indian Point Nuclear Generating Unit Nos. 2 and 3 renewed licenses, “Indian Point Energy Center License Renewal Application,” dated April 23, 2007, as amended, complies with the standards and requirements of the Atomic Energy Act of 1954, as amended (the Act), and the NRC's regulations. As required by the Act and the NRC's regulations in 10 CFR, the NRC has made appropriate findings, which are set forth in the renewed licenses and the ROD. No adjudicatory matters are pending before the Commission or the Atomic Safety and Licensing Board regarding the IP2 and IP3 license renewal application.

Accordingly, the NRC has issued Renewed Facility Operating License Nos. DPR-26 and DPR-64, authorizing operation of IP2 and IP3 until April 30, 2024 and April 30, 2025, respectively.

III. Availability of Documents

The documents identified in the following table are available to interested persons as indicated.

Document | ADAMS accession No.
Indian Point Energy Center License Renewal Application,” dated April 23, 2007 | ML071210512.
NUREG-1437, Supplement 38, “Generic Environmental Impact Statement for License Renewal of Nuclear Plants Regarding Indian Point Nuclear Generating Unit Nos. 2 and 3 (NUREG-1437, Supplement 38) Final Report.” (Volumes 1-3, December 3, 2010) | ML103270072.
NUREG-1437, Supplement 38, “Generic Environmental Impact Statement for License Renewal of Nuclear Plants Regarding Indian Point Nuclear Generating Unit Nos. 2 and 3 (NUREG-1437, Supplement 38) Final Report.” (Volume 4, June 30, 2013) | ML13162A616.
NUREG-1437, Supplement 38, “Generic Environmental Impact Statement for License Renewal of Nuclear Plants Regarding Indian Point Nuclear Generating Unit Nos. 2 and 3 (NUREG-1437, Supplement 38) Final Report.” (Volume 5, April 30, 2018) | ML18107A759.
“Safety Evaluation Report (SER) Related to the License Renewal of Indian Point Nuclear Generating Unit Nos. 2 and 3” (August 11, 2009) | ML092240268.
NUREG-1930, “Safety Evaluation Report (SER) Related to the License Renewal of Indian Point Nuclear Generating Unit Nos. 2 and 3” (Volume 1 November 30, 2009) | ML093170451.
NUREG-1930 “Safety Evaluation Report (SER) Related to the License Renewal of Indian Point Nuclear Generating Unit Nos. 2 and 3” (Volume 2 November 30, 2009) | ML093170671.
NUREG-1930 “Safety Evaluation Report (SER) Related to the License Renewal of Indian Point Nuclear Generating Unit Nos. 2 and 3” (August 31, 2011) | ML11242A215.
NUREG-1930 “Safety Evaluation Report (SER) Related to the License Renewal of Indian Point Nuclear Generating Unit Nos. 2 and 3” (July 31, 2015) | ML15188A383.
NUREG-1930 “Safety Evaluation Report (SER) Related to the License Renewal of Indian Point Nuclear Generating Unit Nos. 2 and 3” (August 1, 2018) | ML18200A333.
Record of Decision for License Renewal Application For Indian Point Nuclear Generating (September 17, 2018) | ML18212A032.

Dated at Rockville, MD, this 17th day of September 2018.
For the Nuclear Regulatory Commission.
George A. Wilson, Jr.,
Director, Division of Materials and License Renewal, Office of Nuclear Reactor Regulation.

[FR Doc. 2018-20450 Filed 9-19-18; 8:45 am]

BILLING CODE 7590-01-P